DEPARTMENT OF DEFENSE

Office of the Secretary

[Docket ID: DoD-2014-OS-0089]

Privacy Act of 1974; System of Records

AGENCY: National Guard Bureau, DoD.

ACTION: Notice to add a new System of Records.

SUMMARY: The National Guard Bureau proposes to add a new system of records, INGB 002, entitled “National Guard Bureau Emergency Notification System (NGB ENS)” in its inventory of record systems subject to the Privacy Act of 1974, as amended. This system will establish data repositories at National Guard installations and activities to facilitate notification messages and alerts to assigned agency personnel, when deemed necessary by leadership.

DATES: Comments will be accepted on or before July 11, 2014. This proposed action will be effective the day following the end of the comment period unless comments are received which result in a contrary determination

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jennifer Nikolaisen, 111 South George Mason Drive, AH2, Arlington, VA 22204-1373 or telephone: (571) 256-7838.

SUPPLEMENTARY INFORMATION: The Defense Information Systems Agency notices for systems of records subject to the Privacy Act of 1974 (5 U.S.C. 552a), as amended, have been published in the Federal Register and are available from the address in FOR FURTHER INFORMATION CONTACT or from the Defense Privacy and Civil Liberties Office Web site at http://dpclo.defense.gov.

The proposed system report, as required by 5 U.S.C. 552a(r) of the Privacy Act of 1974, as amended, was submitted on March 26, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 6, 2014.
Aaron Siegel,
Alternate OSD Federal Register Liaison Officer, Department of Defense.

INGB 002

System name:

National Guard Bureau Emergency Notification System (NGB ENS)

System location:

National Guard installations and activities. Official mailing addresses may be obtained from the system manager by writing to National Guard Bureau, Domestic Operations and Force Development, Arlington Hall Station 1, 111 South George Mason Drive, Arlington, VA 22204-1382.

Categories of individuals covered by the system:

Military members serving in the National Guard as well as active duty military or reservists from any service branch that are working at National Guard installations and activities, DoD civilians, government contractors, interns, volunteers, foreign nationals, and employees of the various states, territories, and the District Of Columbia working at National Guard installations and activities.

Categories of records in the system:

Full name, duty phone, duty email address, personal phone number (home/cellular), personal email address, and emergency contact phone number.

Authority for maintenance of the system:

10 U.S.C. 10502, Chief, National Guard Bureau; DoDD 3020.26, Department of Defense Continuity Programs; and DoDI 3020.42, Defense Continuity Plan Development.

Purpose(s):

Establish data repositories at National Guard installations and activities to facilitate notification messages and alerts to assigned agency personnel, when deemed necessary by leadership.

Routine uses of records maintained in the system including categories of users and the purposes of such uses:

In addition to those disclosures generally permitted under 5 U.S.C. 552a(b) of the Privacy Act of 1974, as amended, these records contained therein may specifically be disclosed outside the (DoD) as a routine use pursuant to 5 U.S.C. 552a(b)(3) as follows:

The DoD Blanket Routine Uses may apply to this system.

Policies and practices for storing, retrieving, accessing, retaining, and disposing of records in the system:

Storage:

Electronic storage media.

Retrievability:

By individual's full name.

Safeguards:

Information is stored on-site behind locked doors to controlled rooms. Administrators are required to have administrative credentials to access the system for maintenance. Location has security alarms and 24 hour security on premises. Access to personal information is restricted to those who require the records in the performance of their official duties. They must have a Government Common Access Card (CAC) and associated Personal Identification Number (PIN) in addition to user identification and password for system access.

Retention and disposal:

Disposition pending (treat records as permanent until the National Archives and Records Administration have approved the retention and disposition schedule).

System manager(s) and address:

National Guard Bureau Domestic Operations and Force Development, Arlington Hall Station 1, 111 South George Mason Drive, Arlington, VA 22204-1382.

Notification procedure:

Individuals seeking to determine whether information about themselves is contained in this system should address written inquiries to National Guard Bureau Domestic Operations and Force Development, Arlington Hall Station 1, 111 South George Mason Drive, Arlington, VA 22204-1382.

Written requests must be signed and include individual's full name, unit where they are/were assigned, and full mailing address.

Record access procedures:

Individuals seeking access to information about themselves contained in this system should address written inquiries to National Guard Bureau Domestic Operations and Force Development, Arlington Hall Station 1, 111 South George Mason Drive, Arlington, VA 22204-1382.

Written requests must be signed and include individual's full name, unit where they were/are assigned, and mailing address.

Contesting records procedures:

The National Guard Bureau rules for accessing records, and for contesting contents and appealing initial agency determinations are published at 32 CFR Part 329 or may be obtained from the system manager.

Record source categories:

Information is obtained from the active directory network user account and directly from the individuals.

Exemptions claimed for the system:

None.

[FR Doc. 2014-13583 Filed 6-10-14; 8:45 am]

BILLING CODE 5001-06-P